DEPARTMENT OF TRANSPORTATION

Federal Aviation Administration

14 CFR Part 39

[Docket No. FAA-2023-1414; Project Identifier MCAI-2023-00438-T; Amendment 39-22593; AD 2023-22-09]

RIN 2120-AA64

Airworthiness Directives; Airbus SAS Airplanes

AGENCY: Federal Aviation Administration (FAA), DOT.

ACTION: Final rule.

SUMMARY: The FAA is adopting a new airworthiness directive (AD) for certain Airbus SAS Model A350-941 airplanes. This AD was prompted by a report that the axis index washers on the forward and rear main landing gear door hinges were found inverted in production. This AD requires a one-time detailed inspection of the axis index washers for correct installation, and, depending on findings, replacement of the axis index washers, as specified in a European Union Aviation Safety Agency (EASA) AD, which is incorporated by reference. The FAA is issuing this AD to address the unsafe condition on these products.

DATES: This AD is effective December 26, 2023.

The Director of the Federal Register approved the incorporation by reference of a certain publication listed in this AD as of December 26, 2023.

ADDRESSES:

AD Docket: You may examine the AD docket at regulations.gov under Docket No. FAA-2023-1414; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website ad.easa.europa.eu.

• You may view this material at the FAA, Airworthiness Products Section, Operational Safety Branch, 2200 South 216th Street, Des Moines, WA. For information on the availability of this material at the FAA, call 206-231-3195. It is also available in the AD docket at regulations.gov under Docket No. FAA-2023-1414.

FOR FURTHER INFORMATION CONTACT: Dat Le, Aviation Safety Engineer, FAA, 1600 Stewart Avenue, Suite 410, Westbury, NY 11590; telephone 516-228-7317; email: dat.v.le@faa.gov.

SUPPLEMENTARY INFORMATION:

Background

The FAA issued a notice of proposed rulemaking (NPRM) to amend 14 CFR part 39 by adding an AD that would apply to certain Airbus SAS Model A350-941 airplanes. The NPRM published in the Federal Register on July 14, 2023 (88 FR 45112). The NPRM was prompted by AD 2023-0051, dated March 10, 2023, issued by EASA, which is the Technical Agent for the Member States of the European Union (EASA AD 2023-0051) (also referred to as the MCAI). The MCAI states that the forward (#1) and rear (#3) main landing gear door (MLGD) hinge axis index washers were found inverted in production (index washer for forward fitting installed at rear fitting and vice versa). This condition, if not detected and corrected, could lead to reduced structural integrity of the MLGD hinge fittings, possibly resulting in the loss of an MLGD during flight, and consequent injury to persons on the ground.

The FAA is issuing this AD to address the unsafe condition on these products. You may examine the MCAI in the AD docket at regulations.gov under Docket No. FAA-2023-1414.

Discussion of Final Airworthiness Directive

Comments

The FAA received a comment from Air Line Pilots Association, International (ALPA) who supported the NPRM without change.

The FAA received additional comments from Delta Air Lines (Delta). The following presents the comments received on the NPRM and the FAA's response to the comments.

Request for Clarification of Required Actions

Delta requested that an exception should be added to paragraph (h) of the proposed AD stating that the accomplishment of A350 maintenance procedures A350-A-32-12-72-00ZZZ-520Z-A and A350-A-32-12-72-00ZZZ-720Z-A to be utilized with the terminology “Refer to” in lieu of “in accordance with” to allow utilizing only the portions of the maintenance procedure that pertains to the replacement of the index washers, index pins and axis assemblies, one at a time, first the FWD side and then the AFT side in lieu of removing and re-installing the entire MLGD when replacing the affected parts per the proposed AD. Delta stated that, alternatively, the exception could identify specific steps and paragraphs of the maintenance procedures that are utilized for replacement of the affected parts only. Delta contends that the removal of the entire MLGD appears not to be the intent of Airbus Service Bulletin A350-52-P048 (the service information referenced in EASA AD 2023-0051), the EASA AD, and this proposed AD. Delta noted that the “in accordance with” language in the service information is contradictory to the detailed subsequent steps of the service information.

The FAA agrees the intent was not to remove and re-install the MLGD, but to replace the affected parts. The FAA AD agrees that A350 maintenance procedures A350-A-32-12-72-00ZZZ-520Z-A and A350-A-32-12-72-00ZZZ-720Z-A are for reference when accomplishing the required actions. The FAA added paragraph (h)(2) to this AD to clarify the required actions.

Request for Clarification of Figure Reference

Delta requested an exception should be added to paragraph (h) of the proposed AD stating where maintenance procedure A350-A-52-XX-P048-01ZZZ-93CZ-A, paragraphs C(1)(c)3 & 4, Figure BC refers to Detail E, change to Detail F; and where paragraphs C(2)(c)3 & 4, Figure BD, refers to Detail E, change to Detail F. Delta noted these errors are in the original issue and Revision 01 of Airbus Service Bulletin A350-52-P048.

The FAA has confirmed with the manufacturer that the service information steps are correct and address the unsafe condition and that Figures BC and BD are for reference only. The manufacturer stated that it is considering addressing any errors in a future revision of Airbus Service Bulletin A350-52-P048. The FAA has not changed this AD in this regard.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

EASA AD 2023-0051 specifies procedures for a one-time detailed inspection of the MLGD forward and rear hinges for incorrectly installed axis index washers and, depending on findings, replacement of the axis index washers.

This material is reasonably available because the interested parties have access to it through their normal course of business or by the means identified in the ADDRESSES section.

Costs of Compliance

The FAA estimates that this AD affects 23 airplanes of U.S. registry. The FAA estimates the following costs to comply with this AD:

Estimated Costs for Required Actions
Labor cost | Parts cost | Cost per product | Cost on U.S. operators
2.25 work-hours × $85 per hour = $192 | $0 | $192 | $4,416

The FAA estimates the following costs to do any necessary on-condition action that would be required based on the results of any required actions. The FAA has no data to determine the number of airplanes that might need this on-condition action:

Estimated Costs of On-Condition Actions
Labor cost | Parts cost | Cost per product
8.25 work-hours × $85 per hour = $702 | $10 per door | $712

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-22-09 Airbus SAS: Amendment 39-22593; Docket No. FAA-2023-1414; Project Identifier MCAI-2023-00438-T.

(a) Effective Date

This airworthiness directive (AD) is effective December 26, 2023.

(b) Affected ADs

None.

(c) Applicability

This AD applies to Airbus SAS Model A350-941 airplanes, certificated in any category, as identified in European Union Aviation Safety Agency (EASA) AD 2023-0051, dated March 10, 2023 (EASA AD 2023-0051).

(d) Subject

Air Transport Association (ATA) of America Code: 52, Doors.

(e) Unsafe Condition

This AD was prompted by a report that the axis index washers on the forward and rear main landing gear door (MLGD) hinges were found inverted in production. The FAA is issuing this AD to address incorrectly installed washers. The unsafe condition, if not addressed, could result in reduced structural integrity of the MLGD hinge fittings, possibly resulting in a loss of an MLGD during flight, and consequent injury to persons on the ground.

(f) Compliance

Comply with this AD within the compliance times specified, unless already done.

(g) Requirements

Except as specified in paragraph (h) of this AD: Comply with all required actions and compliance times specified in, and in accordance with, EASA AD 2023-0051.

(h) Exceptions to EASA AD 2023-0051

(1) Where the applicability and Groups definitions of EASA AD 2023-0051 refer to serial numbers, replace the text “the SB” with “Airbus Service Bulletin A350-52-P048, dated November 24, 2022.”

(2) Where the service information referenced in EASA AD 2023-0051 specifies to accomplish actions “in accordance with” A350 maintenance procedures A350-A-32-12-72-00ZZZ-520Z-A and A350-A-32-12-72-00ZZZ-720Z-A, for this AD, those maintenance procedures are for reference only when accomplishing the actions.

(3) This AD does not adopt the “Remarks” section of EASA AD 2023-0051.

(i) No Reporting Requirement

Although the service information referenced in EASA AD 2023-0051 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (k) of this AD or email to: 9-AVS-AIR-730-AMOC@faa.gov. If mailing information, also submit information by email. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Dat Le, Aviation Safety Engineer, FAA, 1600 Stewart Avenue, Suite 410, Westbury, NY 11590; telephone 516-228-7317; email: dat.v.le@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2023-0051, dated March 10, 2023.

(ii) [Reserved]

(3) For EASA AD 2023-0051, contact EASA, Konrad-Adenauer-Ufer 3, 50668 Cologne, Germany; telephone +49 221 8999 000; email: ADs@easa.europa.eu; website: easa.europa.eu. You may find this EASA AD on the EASA website: ad.easa.europa.eu.

(4) You may view this service information at the FAA, Airworthiness Products Section, Operational Safety Branch, 2200 South 216th Street, Des Moines, WA. For information on the availability of this material at the FAA, call 206-231-3195.

(5) You may view this material at the National Archives and Records Administration (NARA). For information on the availability of this material at NARA, visit www.archives.gov/federal-register/cfr/ibr-locations or email fr.inspection@nara.gov.

Issued on October 30, 2023.
Victor Wicklund,
Deputy Director, Compliance & Airworthiness Division, Aircraft Certification Service.

[FR Doc. 2023-25506 Filed 11-17-23; 8:45 am]

BILLING CODE 4910-13-P